DEPARTMENT OF TRANSPORTATION

Federal Highway Administration

[Docket No. FHWA-2013-0048]

Notice of Funding Opportunity for Accelerated Innovation Deployment Demonstration

AGENCY: Federal Highway Administration (FHWA), Department of Transportation (DOT).

ACTION: Notice of Correction.

SUMMARY: This notice corrects information in the September 1, 2016, Notice of Funding Opportunity (NOFO) at 81 FR 60403 in reference to the amount of time by which a project must be authorized after applying for Accelerated Innovation Deployment (AID) Demonstration funding.

DATES: The FHWA will use an open, rolling solicitation. The project must be authorized within 12 months of applying for AID Demonstration funding. Completed applications will be evaluated and award determinations made on a rolling basis until the program ends or funding is no longer available. Applications must be submitted through http://www.grants.gov.

ADDRESSES: Only applicants who comply with all submission requirements described in this notice and submit applications through www.grants.gov will be eligible for award.

FOR FURTHER INFORMATION CONTACT: For questions about the AID Demonstration program discussed herein, contact Mr. Thomas Harman, Director, Center for Accelerating Innovation, Federal Highway Administration, 1200 New Jersey Avenue SE., Washington, DC 20590, (202) 366-6377. For legal questions, contact Ms. Seetha Srinivasan, Office of the Chief Counsel, Federal Highway Administration, 1200 New Jersey Avenue SE., Washington, DC 20590, (202) 366-4099. Office hours are from 8:00 a.m. to 4:30 p.m., e.t., Monday through Friday, except Federal holidays. A TDD is available for individuals who are deaf or hard of hearing at (202) 366-3993.

Additionally, the notice, answers to questions, requests for clarification, and information about Webinars for further guidance will be posted at: http://www.fhwa.dot.gov/innovation/grants/. Applicants are encouraged to contact FHWA directly to receive information about AID Demonstration.

SUPPLEMENTARY INFORMATION:

Electronic Access

An electronic copy of this document may be downloaded from the Federal Register Web site at http://www.archives.gov and the Government Publishing Office's database at http://www.access.gpo.gov/nara.

Background

The FHWA posted its NOFO on September 1, 2016, at 81 FR 60403. The NOFO is identified as document number 2016-21063 on the docket. Section D. Application and Submission Information and section E. Application Review Information, subsection I.1.i. of the NOFO incorrectly identified the amount of time by which a project must be authorized after applying for AID Demonstration funding as 6 months. The FHWA issues this correction to clarify that a project must be authorized within 12 months of applying for AID Demonstration funding.

Additional eligibility, application and submission information, as well as FHWA application review information, remains as published in the FHWA's NOFO dated September 1, 2016.

Authority: Section 52003 of Pub. L. 112-141; Section 6003 of Pub. L. 114-94; 23 U.S.C. 503.

Issued on: October 5, 2016.
Gregory G. Nadeau,
Administrator, Federal Highway Administration.

[FR Doc. 2016-24851 Filed 10-13-16; 8:45 am]

BILLING CODE 4910-22-P